DEPARTMENT OF THE INTERIOR

Fish and Wildlife Service

Availability of an Environmental Assessment and Receipt of an Application for a Permit to Enhance the Survival of the Columbian Sharp-tailed Grouse in Wallowa County, Oregon Through a Candidate Conservation Agreement With Assurances

AGENCY: Fish and Wildlife Service, Interior.

ACTION: Notice of availability.

SUMMARY: The Oregon Department of Fish and Wildlife (ODFW) has applied to the Fish and Wildlife Service (Service) for an enhancement of survival permit pursuant to section 10(a)(1)(A) of the Endangered Species Act of 1973, as amended. The permit application includes a proposed Candidate Conservation Agreement with Assurances (Agreement) between the ODFW and the Service. The Agreement and permit application are available for public comment.

The purpose of the Agreement is for the ODFW and the Service to implement conservation measures for the Columbian sharp-tailed grouse (Tympanuchus phasianellus) in Wallowa County, Oregon, in support of ODFW's on-going efforts to reintroduce this species to areas that it historically occupied. The conservation measures would be implemented by the ODFW, Service, and by Participating Landowners, and would generally consist of continued implementation of ODFW's Columbian sharp-tailed grouse reintroduction program, and protection and enhancement of sharp-tailed grouse habitat. Consistent with the Service's Candidate Conservation Agreement with Assurances Final Policy, the Agreement is intended to facilitate the conservation of Columbian sharp-tailed grouse by giving the State of Oregon and cooperating private landowners incentives to implement conservation measures. Participating Landowners would receive regulatory certainty concerning land use restrictions that might otherwise apply should the Columbian sharp-tailed grouse become listed under the Endangered Species Act. Participating Landowners, with property in an approximately 161,000-acre area, could sign up under the Agreement and the associated permit through a Certificate of Inclusion. The proposed term of the Agreement and the permit is 20 years. The Service has prepared an Environmental Assessment for approval of the Agreement and issuance of the permit.

We request comments from the public on the permit application, Agreement, and the Environmental Assessment. All comments we receive, including names and addresses, will become part of the administrative record and may be released to the public.

DATES: Written comments should be received on or before September 1, 2000.

ADDRESSES: Comments should be addressed to Dennis Mackey, Project Biologist, Fish and Wildlife Service, 1387 S. Vinnell Way, Room 368, Boise, Idaho 83709 (telephone: 208/378-5267; facsimile: 208/378-5262).

FOR FURTHER INFORMATION CONTACT: Dennis Mackey at the above address or telephone 208/378-5267.

SUPPLEMENTARY INFORMATION:

Document Availability

You may obtain copies of the documents for review by contacting the individual named above. You also may make an appointment to view the documents at the above address during normal business hours. The documents are also available electronically on the World Wide Web at http://www.fws.gov/r1srbo.

Background

Under a Candidate Conservation Agreement with Assurances, participating landowners voluntarily implement conservation activities on their property to benefit species that are proposed for listing under the Endangered Species Act, candidate species, or other sensitive species. Candidate Conservation Agreements with Assurances encourage private and other non-Federal property owners to implement conservation efforts and reduce threats to unlisted species by assuring them they will not be subjected to increased property use restrictions if the species is listed in the future under the Endangered Species Act. Application requirements and issuance criteria for enhancement of survival permits through Candidate Conservation Agreements with Assurances are found in 50 CFR 17.22(d) and 17.32(d).

On October 26, 1999, the Service found that listing the Columbian sharp-tailed grouse under the Endangered Species Act may be warranted, and initiated a review of the species' status. The Columbian sharp-tailed grouse was extirpated from Oregon by the 1960's. The species persisted in Wallowa County until the late 1940's, and the last Columbian sharp-tails probably occurred in Baker County in northeast Oregon. Reintroduction of the Columbian sharp-tailed grouse in Oregon began in the spring of 1991. From 1991 through 1997, ODFW released a total of 179 Columbian sharp-tailed grouse in Wallowa County. Currently all known Columbian sharp-tailed grouse occur on private land. To date, landowners have been supportive of the Columbian sharp-tailed grouse reintroduction program, have cooperated with ODFW, and are providing habitat to support the birds. The ODFW is concerned that reintroduction efforts could result in land-use restrictions on cooperating landowners if this species is listed under the Endangered Species Act. Should this happen, landowners would have a disincentive to cooperate in future reintroduction efforts or to provide suitable grouse habitat. As a result of this potential regulatory concern of landowners, ODFW has developed a Candidate Conservation Agreement with Assurances for the Columbian sharp-tailed grouse in cooperation with the Service, and has applied to the Service for a permit under section 10(a) of the Endangered Species Act, which would authorize future incidental take of the birds by cooperating landowners.

Under the Agreement and permit, Participating Landowners would provide certain Columbian sharp-tailed grouse habitat protection or enhancement measures on their lands. Protection and enhancement measures will be directed towards sharp-tailed grouse lek, nest, roost, and/or winter habitat. If the Columbian sharp-tailed grouse is listed under the Endangered Species Act, and after a Participating Landowner has provided the agreed upon habitat conditions for the specified period of time, the permit would authorize incidental take of Columbian sharp-tailed grouse as a result of the landowner's agricultural-related activities: crop cultivation and harvesting, livestock grazing, and farm equipment operation.

We are providing this notice pursuant to section 10(c) of the Endangered Species Act and implementing regulations for the National Environmental Policy Act (40 CFR 1506.6). We will evaluate the permit application, associated documents, and comments submitted thereon to determine whether the permit application meets the requirements of section 10(a) of the Endangered Species Act and National Environmental Policy Act regulations. If we determine that the requirements are met, we will sign the Agreement and issue an enhancement of survival permit under section 10(a)(1)(A) of the Endangered Species Act to ODFW for take of Columbian sharp-tailed grouse incidental to otherwise lawful activities in accordance with the terms of the Agreement. We will not make our final decision until after the end of the 30-day comment period and will fully consider all comments received during the comment period.

Dated: July 14, 1999.
Rowan W. Gould,
Deputy Regional Director, Fish and Wildlife Service, Portland, Oregon.

[FR Doc. 00-19469 Filed 8-1-00; 8:45 am]

BILLING CODE 4310-55-P